DEPARTMENT OF THE INTERIOR

Bureau of Land Management

[NV-960-1060-PF-01-24 1A]

Extension of Approved Information Collection, OMB Number 1004-0042

AGENCY: Bureau of Land Management, Interior.

ACTION: Notice and request for comments.

SUMMARY: In accordance with the Paperwork Reduction Act of 1995, the Bureau of Land Management (BLM) is announcing its intention to request extension of an existing approval to collect certain information from those individuals requesting to adopt a wild horse or burro (43 CFR 4750). BLM needs this information to determine whether or not individuals are qualified to provide humane care and proper treatment, including transportation, feeding and handling, to an adopted wild horse or burro.

DATES: You must submit your comments to BLM at the appropriate address below on or before February 9, 2001. BLM will not necessarily consider any comments received after the above date.

ADDRESSES: Comments may be mailed to: Regulatory Affairs Group (630), Bureau of Land Management, 1849 C Street NW, Room 401LS, Washington, DC 20240.

Comments may be sent via Internet to: WOComment@blm.gov. Please include “ATTN: 1004-0042” and your name and return address in your Internet message.

Comments may be hand-delivered to the Bureau of Land Management, Administrative Record, Room 401, 1620 L Street, NW., Washington, DC.

Comments will be available for public review at the L Street address during regular business hours (7:45 a.m. to 4:15 p.m.), Monday through Friday.

FOR FURTHER INFORMATION CONTACT: Bea Wade, on (775) 861-6583 (Commercial or FTS). Persons who use a telecommunications device for the deaf (TDD) may call the Federal Information Relay Service (FIRS) at 1-800-877-8330, 24 hours a day, seven days a week, to contact Ms. Wade.

SUPPLEMENTARY INFORMATION: 5 CFR 1320.12(a) requires BLM to provide 60-day notice in the Federal Register concerning a collection of information contained in regulations found in 43 CFR 4750 to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et seq.

Section 3(b)(2)(B) of the Wild Free-Roaming Horse and Burro Act requires that BLM provide health excess animals for adoption by individuals that the Secretary determines are qualified to provide humane care and proper treatment. The implementing regulations are found at 43 CFR Subpart 4750—Private Maintenance. Individuals must inform BLM of their interest and willingness to adopt. The adoption application requirement provides individuals with a mechanism to inform BLM of their interest and to submit their credentials for determining their qualifications. The Application for Adoption of Wild Horse(s) and Burro(s), Form 4710-10, is required by 43 CFR 4750.3.

BLM uses the information to determine whether individuals are qualified to provide humane care and proper treatment to one or more adopted animals. When BLM approves the application and the individual completes a Private Maintenance and Care Agreement, the individual may adopt one to four wild horses or burros at one time. There is no other source for the required information, and failure to furnish the required information will result in the applicant's not being able to adopt a wild horse or burro.

The collection of information is short and simple and not inconvenient to the applicant. Valuable dialogue normally occurs during the approval process when BLM conducts an interview with the applicant to ensure that the applicant understands the obligations and prohibited acts and that the adopter is knowledgeable about horses and burros or has access to assistance from a knowledgeable individual. Based on BLM's experience in administering the activities described above, the public reporting burden is estimated at 10 minutes per response. The estimate number of respondents is 30,000 per year, for a total estimated burden of 5,000 hours to read the instructions, gather and supply the information and send the applications to BLM.

BLM will summarize all responses to this notice and include them in the request for Office of Management and Budget approval. All comments will also become a matter of public record.

Dated: December 5, 2000.
Michael Schwartz,
BLM Information Collection Clearance Officer.

[FR Doc. 00-31363 Filed 12-8-00; 8:45 am]

BILLING CODE 4310-84-M